DEPARTMENT OF ENERGY

Federal Energy Regulatory Commission

Combined Notice of Filings

Take notice that the Commission has received the following Natural Gas Pipeline Rate and Refund Report filings:

Filings Instituting Proceedings

Docket Numbers: RP17-743-000.

Applicants: Ozark Gas Transmission, L.L.C.

Description: Ozark Gas Transmission, L.L.C. submits tariff filing per 154.204: BP Energy K820104 Negotiated Rate eff 5-1-2021 to be effective 5/1/2021.

Filed Date: 05/12/2017.

Accession Number: 20170512-5030.

Comment Date: 5:00 p.m. Eastern Time on Wednesday, May 24, 2017.

Docket Numbers: RP17-744-000.

Applicants: East Tennessee Natural Gas, LLC.

Description: East Tennessee Natural Gas, LLC submits tariff filing per 154.204: Duke Energy Progress K410135 Neg Rate eff. 11-1-2017 to be effective 11/1/2017.

Filed Date: 05/12/2017.

Accession Number: 20170512-5058.

Comment Date: 5:00 p.m. Eastern Time on Wednesday, May 24, 2017.

Docket Numbers: RP17-745-000.

Applicants: Kern River Gas Transmission Company.

Description: Kern River Gas Transmission Company submits tariff filing per 154.204: 2017 Nonconforming Alt P2 and P2 Insulated TSAs to be effective 5/1/2017.

Filed Date: 05/12/2017.

Accession Number: 20170512-5195.

Comment Date: 5:00 p.m. Eastern Time on Wednesday, May 24, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2017.
Kimberly D. Bose,
Secretary.

[FR Doc. 2017-10523 Filed 5-22-17; 8:45 am]

BILLING CODE 6717-01-P